ENVIRONMENTAL PROTECTION AGENCY

40 CFR Part 52

[CA-184-0229; FRL-6585-9]

Approval and Promulgation of Implementation Plans; California State Implementation Plan Revision, Bay Area Air Quality Management District, South Coast Air Quality Management District, San Diego County Air Pollution Control District, and Monterey Bay Unified Air Pollution Control District

AGENCY: Environmental Protection Agency (EPA).

ACTION: Final rule.

SUMMARY: EPA is finalizing the approval of revisions to the California State Implementation Plan (SIP) proposed in the Federal Register on January 19, 2000. These revisions concern Bay Area Air Quality Management District (BAAQMD) Rule 8.45, Motor Vehicle and Mobile Equipment Coating Operations; South Coast Air Quality Management District (SCAQMD) Rule 1151, Motor Vehicle and Mobile Equipment Non-Assembly Line Coating Operation; San Diego County Air Pollution Control District (SDCAPCD) Rule 67.19, Coatings and Printing Inks Manufacturing Operations, and Monterey Bay Unified Air Pollution Control District (MBUAPCD) Rule 425, Use of Cutback Asphalt. This approval action will incorporate these rules into the federally approved SIP. The intended effect of finalizing this action is to regulate emissions of volatile organic compounds (VOCs) according to the requirements of the Clean Air Act, as amended in 1990 (CAA or the Act). These revised rules control VOC emissions from automobile refinishing, coating and ink manufacturing and use of cutback asphalt. Thus, EPA is finalizing the approval of these revisions into the California SIP under provisions of the CAA regarding EPA action on SIP submittals, SIPs for national primary and secondary ambient air quality standards and plan requirements for nonattainment areas.

EFFECTIVE DATE: This action is effective June 26, 2000.

ADDRESSES: Copies of the rule revisions and EPA's evaluation reports for these rules are available for public inspection at EPA's Region IX office during normal business hours. Copies of the submitted rule revisions are available for inspection at the following locations:

Rulemaking Office (AIR-4), Air Division, U.S. Environmental Protection Agency, Region IX, 75 Hawthorne Street, San Francisco, CA 94105

California Air Resources Board, Stationary Source Division, Rule Evaluation Section, 2020 “L” Street, Sacramento, CA 95812

Bay Area Air Quality Management District, 939 Ellis Street, San Francisco, CA 94109

South Coast Air Quality Management District, 21865 E. Copley, Diamond Bar, CA 91765

Monterey Bay Unified Air Pollution Control District, 24580 Silver Cloud Court, Monterey, CA 93940

San Diego County Air Pollution Control District, 9150 Chesapeake Drive, San Diego, CA 92123

FOR FURTHER INFORMATION CONTACT: Cynthia G. Allen, Rulemaking Office (AIR-4), Air Division, U.S. Environmental Protection Agency, Region IX, 75 Hawthorne Street, San Francisco, CA 94105-3901, (415) 744-1189.

SUPPLEMENTARY INFORMATION:

I. Applicability

EPA is approving Bay Area Air Quality Management District (BAAQMD) Rule 8.45, Motor Vehicle and Mobile Equipment Coating Operations; South Coast Air Quality Management District (SCAQMD) Rule 1151, Motor Vehicle and Mobile Equipment Non-Assembly Line Coating Operations; San Diego County Air Pollution Control District (SDCAPCD) Rule 67.19, Coatings and Printing Inks Manufacturing Operations, and Monterey Bay Unified Air Pollution Control District (MBUAPCD) Rule 425, Use of Cutback Asphalt. These rules were submitted by the California Air Resources Board (CARB) to EPA on August 1, 1997, February 16, 1999, October 18, 1996, and June 3, 1997, respectively.

II. Background

On January 19, 2000 (see 65 FR 2921) EPA proposed to approve the following rules: BAAQMD Rule 8.45, Motor Vehicle and Mobile Equipment Coating Operations; SCAQMD Rule 1151, Motor Vehicle and Mobile Equipment Non-Assembly Line Coating Operations; SDCAPCD Rule 67.19, Coatings and Printing Inks Manufacturing Operations, and MBUAPCD Rule 425, Use of Cutback Asphalt. BAAQMD adopted Rule 8.45 on November 6, 1996; SCAQMD adopted Rule 1151 on December 11, 1998; SDCAPCD adopted Rule 67.19 on May 15, 1996; and MBUAPCD adopted Rule 425 on March 26, 1997. These rules were submitted in response to EPA's 1988 SIP Call and the CAA section 182(a)(2)(A) requirement that nonattainment areas fix their reasonable available control technology (RACT) rules for ozone in accordance with EPA guidance that interpreted the requirements of the pre-amendment Act. A detailed discussion of the background for each of the above rules and nonattainment areas is provided in the proposed rule (PR) cited above.

EPA has evaluated all of the above rules for consistency with the requirements of the CAA and EPA regulations and EPA's interpretation of these requirements as expressed in the various EPA policy guidance documents referenced in the PR. EPA is finalizing the proposed approval of these rules in order to strengthen the SIP. A discussion of the submitted rules are as follows:

BAAQMD Rule 8.45, Motor Vehicle and Mobile Equipment Coating Operations includes the following significant changes from the current SIP:

• Section 231, Volatile Organic Compounds, was amended by adding acetone, parachlorobenzotrifluoride (PCBTF), and cyclic, branched, or linear, fully methylated siloxanes (VMS) to the list of exempt compounds in conformance with EPA and CARB action.

• Section 601, “Analysis of Samples” was amended by adding BAAQMD Method 41 to analyze samples containing PCBTF, and BAAQMD Method 43 to analyze samples containing VMS.

• Section 602, “Determination of Emissions” was amended by adding the following sentence: For the purpose of determining abatement device efficiency, any acetone, PCBTF or VMS shall be included as a VOC.

SCAQMD Rule 1151, Motor Vehicles and Mobile Equipment Non-Assembly Line Coating Operations, includes the following significant changes from the current SIP:

• Effective December 12, 1998 and until April 1, 1998 the Group II multistage topcoat composite VOC limit was raised to 4.5 lbs/gal. The pre-December 12, 1998 limit of 3.5 lbs/gal limit was reinstated on April 1, 1999;

• A 10% usage limitation on a monthly basis was added for specialty coatings;

• Expanded the prohibition of sale clause;

• Added the requirement that manufacturers must offer for sale by January 1, 1999 clearcoats having VOC content of 2.1 lbs/gal or less; and

• Added an exemption for topcoats applied to prototype motor vehicles.

There is currently no version of SDCAPCD's Rule 67.19, Coatings and Printing Inks Manufacturing Operations, in the SIP. The submitted rule includes the following provisions:

• Applicability section;

• Exemption for sources emitting less than 15 lbs/day;

• Sources emitting less than 50 tons/year are exempted from the requirements of emission control systems;

• Storage tanks of less than 550 gal capacity, or those used exclusively for epoxies or water based coatings are exempted from the requirements of submerged fill pipes;

• A definition section;

• Equipment and workmanship standards;

• Option to comply by using abatement equipment;

• Recordkeeping provisions; and

• Test methods.

Earlier versions of this rule were adopted on June 7, 1994, and March 7, 1995. While EPA can only act on the most recently submitted version, EPA reviewed relevant materials associated with the superseded versions. MBUAPCD submitted Rule 425, Use of Cutback Asphalt, includes the following significant changes from the current SIP:

• Use of the term “petroleum solvent” is now used consistently throughout the rule. Prior to this revision, the term organic solvents and petroleum solvents were used interchangeably leading to confusion in the implementation and enforcement of the rule. The rule has been revised to enhance clarity.

• An additional change was made to the “effective date” section. The rule as revised is now effective on the date of adoption.

A detailed discussion of the rules provisions and evaluation has been provided in the PRs and in technical support documents (TSDs) available at EPA's Region IX office. TSDs prepared by EPA are dated November 2, 1998 for MBUAPCD Rule 425, December 1999 for SDCAPCD Rule 67.19, SCAQMD Rule 1151, and BAAQMD Regulation 8-45.

III. Response to Public Comments

A 30-day public comment period was provided in the PR (see 65 FR 2921). EPA received no comments during this period and one comment after the 30 days expired. This comment was submitted by the National Paint & Coatings Association (NPCA), dated February 25, 2000, and only concerned SCAQMD Rule 1151. Although this comment was submitted and received after close of the comment period, we are acknowledging the comment in this action and summarizing NPCA's primary concern.

NPCA is concerned with the prohibition of sale provision contained in Rule 1151, paragraph (d)(2). NPCA specifically objects to EPA's characterization in proposing approval of Rule 1151, that SCAQMD has “expanded the prohibition of sale clause.” EPA believes this characterization is correct, however, and directs the commenter to page 9 of the December 1998 final staff report associated with SCAQMD's adoption of the submitted rule.

Nothing in this comment has caused EPA to change the rationale for proposing approval of SCAQMD 1151 or the other rules.

IV. EPA Action

EPA is finalizing action to approve BAAQMD Rule 8.45, Motor Vehicle and Mobile Equipment Coating Operations; SCAQMD Rule 1151, Motor Vehicle and Mobile Equipment Non-Assembly Line Coating Operations; SDCAPCD Rule 67.19, Coatings and Printing Inks Manufacturing Operations, and MBUAPCD Rule 425, Use of Cutback Asphalt for inclusion into the California SIP. EPA is approving these rules under section 110(k)(3) as meeting the requirements of section 110(a) and Part D of the CAA. This approval action will incorporate these rules into the federally approved SIP. The intended effect of approving these rules are to regulate emissions of VOCs according to requirements of the CAA.

V. Administrative Requirements

A. Executive Order 12866

The Office of Management and Budget (OMB) has exempted this regulatory action from Executive Order 12866, entitled “Regulatory Planning and Review.”

B. Executive Order 13045

Executive Order 13045, entitled Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13084

Under Executive Order 13084, Consultation and Coordination with Indian Tribal Governments, EPA may not issue a regulation that is not required by statute, that significantly affects or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation.

In addition, Executive Order 13084 requires EPA to develop an effective process permitting elected and other representatives of Indian tribal governments “to provide meaningful and timely input in the development of regulatory policies on matters that significantly or uniquely affect their communities.” Today's rule does not significantly or uniquely affect the communities of Indian tribal governments. Accordingly, the requirements of section 3(b) of Executive Order 13084 do not apply to this rule.

D. Executive Order 13132

Executive Order 13121, entitled Federalism (64 FR 43255, August 10, 1999) revokes and replaces Executive Orders 12612, Federalism and 12875, Enhancing the Intergovernmental Partnership. Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. Thus, the requirements of section 6 of the Executive Order do not apply to this rule.

E. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This final rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under section 202 of the Unfunded Mandates Reform Act of 1995 (“Unfunded Mandates Act”), signed into law on March 22, 1995, EPA must prepare a budgetary impact statement to accompany any proposed or final rule that includes a Federal mandate that may result in estimated annual costs to State, local, or tribal governments in the aggregate; or to private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This rule is not a “major” rule as defined by 5 U.S.C. 804(2).

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by July 25, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

Lists of Subjects in 40 CFR Part 52

Environmental protection, Air pollution control, Hydrocarbons, Incorporation by reference, Intergovernmental relations, Ozone, Reporting and recordkeeping requirements, Volatile organic compounds.

Dated: April 12, 2000.
John Wise,
Acting Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.220 is amended by adding paragraphs (c)(241)(i)(A)(5), (c)(248)(i)(F), (c)(258)(i)(A)(3) and (c)(262)(i)(C)(2) to read as follows:

§ 52.220 Identification of plan.

* * * * *

(c) * * *

(241) * * *

(i) * * *

(A) * * *

(5) Rule 67.19, adopted May 15, 1996.

* * * * *

(248) * * *

(i) * * *

(F) * * *

(1) Regulation 8, Rule 45, adopted on November 6, 1996.

* * * * *

(258) * * *

(i) * * *

(A) * * *

(3) Rule 425, adopted on March 26, 1997.

* * * * *

(262) * * *

(i) * * *

(C) * * *

(2) Rule 1151, adopted on December 11, 1998.

* * * * *

[FR Doc. 00-13200 Filed 5-25-00; 8:45 am]

BILLING CODE 6560-50-P